DEPARTMENT OF TRANSPORTATION

National Highway Traffic Safety Administration

[Docket No. NHTSA-2017-0082]

Automated Driving Systems 2.0: A Vision for Safety; Listening Session

AGENCY: National Highway Traffic Safety Administration (NHTSA), U.S. Department of Transportation (DOT).

ACTION: Notice of public meeting.

SUMMARY: NHTSA is announcing a public meeting to seek input regarding the recently released Automated Driving Systems 2.0: A Vision for Safety. In this document, NHTSA provides Voluntary Guidance to support the automotive industry and other key stakeholders as they consider and design best practices for the testing and deployment of Automated Driving Systems (ADSs), Best Practices for Legislatures, as well as a framework for States to develop procedures and considerations for the safe operation of ADSs on public roadways.

The objective of the public meeting is to identify if further clarification is necessary to support voluntary implementation of the new Voluntary Guidance. The public meeting will be an open listening session style to provide as great an opportunity for comment as possible. All comments will be oral and any presentations should be submitted to the docket for consideration.

DATES: NHTSA will hold the public meeting on November 6, 2017, in Washington, DC. The meeting will start at 9 a.m. and continue until 12 a.m., local time. Check-in (through security) will begin at 8 a.m. Attendees should arrive early enough to enable them to go through security by 8:50 a.m.

ADDRESSES: The meeting will be held at the DOT headquarters building located at 1200 New Jersey Avenue SE., Washington, DC 20590 (Green Line Metro station at Navy Yard) on the [Ground Floor Atrium]. This facility is accessible to individuals with disabilities. The meeting will also be webcast live, and a link to the actual webcast will be available.

FOR FURTHER INFORMATION CONTACT: If you have questions about the public meeting, please contact us at av_info_nhtsa@dot.gov or Debbie Sweet at 202-366-7179.

SUPPLEMENTARY INFORMATION: Registration is necessary for all attendees. Attendees should register at: https://docs.google.com/forms/d/e/1FAIpQLSfyIZcOtsNUO3gU8adVWWsVVYjXFqhAkSyOviIh90DbZn51Cg/viewform?usp=sf_link by November 1, 2017. Please provide your name, email address, and affiliation. Also indicate if you wish to offer technical remarks (speaking would be limited to 5 minutes per agenda topic) and please indicate whether you require accommodations such as a sign language interpreter. Space is limited, so advanced registration is highly encouraged.

Although attendees will be given the opportunity to offer technical remarks, there will not be time for attendees to make audio-visual presentations during the meeting. Note: We may not be able to accommodate all attendees who wish to make oral remarks. Should it be necessary to cancel the meeting due to inclement weather or other emergency, NHTSA will take all available measures to notify registered participants.

NHTSA will conduct the public meeting informally, and technical rules of evidence will not apply. We will arrange for a written transcript of the meeting and keep the official record open for 30 days after the meeting to allow submission of supplemental information. You may make arrangements for copies of the transcripts directly with the court reporter, and the transcript will also be posted in the docket when it becomes available.

Written Comments: Written statements and supporting information submitted during the comment period will be considered with the same weight as oral comments and supporting information presented at the public meeting. Please submit all written comments no later than November 14, 2017, by any of the following methods:

• Federal Rulemaking Portal: Go to http://www.regulations.gov. Follow the online instructions for submitting comments.

• Mail: Docket Management Facility: DOT, 1200 New Jersey Avenue SE., West Building Ground Floor, Room W12-140, Washington, DC 20590.

• Hand Delivery or Courier: 1200 New Jersey Avenue SE., West Building Ground Floor, Room W12-140, Washington, DC 20590, between 9 a.m. and 5 p.m. ET, Monday through Friday, except Federal Holidays.

• Fax: 202-366-1767.

Instructions: All submissions must include the Agency name and docket number. Note that all comments received will be posted without change to http://www.regulations.gov, including any personal information provided. Please see the Privacy Act discussion below.

Docket: For access to the docket go to http://www.regulations.gov at any time or to 1200 New Jersey Avenue SE., West Building, Ground Floor, Room W12-140, Washington, DC 20590, between 9 a.m. and 5 p.m., Monday through Friday, except Federal Holidays. Telephone: 202-366-9826.

Privacy Act: Anyone is able to search the electronic form of all comments received into any of our dockets by the name of the individual submitting the comment (or signing the comment, if submitted on behalf of an association, business, labor union, etc.). You may review DOT's complete Privacy Act Statement in the Federal Register published on April 11, 2000, (Volume 65, Number 70; Pages 19477-78), or you may visit http://www.regulations.gov/privacy.html.

Confidential Business Information: If you wish to submit any information under a claim of confidentiality, you should submit three copies of your complete submission, including the information you claim to be confidential business information to the Chief Counsel, NHTSA, at the address given under FOR FURTHER INFORMATION CONTACT. In addition, you should submit two copies, from which you have deleted the claimed confidential business information, to Docket Management at the address given above. When you send a comment containing information claimed to be confidential business information, you should submit a cover letter setting forth the information specified in our confidential business information regulation (49 CFR part 512).

Background

On September 12, 2017, DOT released Automated Driving Systems 2.0: A Vision for Safety and requested public comment. NHTSA has issued 2.0 as the next step on the path forward for the safe testing and deployment of ADSs. Together, the Voluntary Guidance for ADS and Technical Assistance to States serve to support industry, Government officials, safety advocates, and the public. By replacing the Federal Automated Vehicles Policy, 2.0 responds to public comments, continues the voluntary guidance framework, and assures industry, the States, and the public that the Agency will remain a leader in innovation and safety. The full Automated Driving Systems 2.0: A Vision for Safety can be found at www.nhtsatransportation.gov/av.

Meeting and Draft Agenda

This public meeting is being held during the open comment period and provides an opportunity for individuals and stakeholders to express feedback regarding both Section 1: Voluntary Guidance for Automated Driving Systems and Section 2: Technical Assistance to States. Input received at the public meeting will be used to make any necessary clarifications to 2.0, in support of its voluntary implementation. As appropriate, NHTSA will post clarification information on the NHTSA Web site in the Frequently Asked Questions section. The meeting agenda follows:

8-9 a.m.—Arrival/Check-In

9-10:30 a.m.—Section 1: Voluntary Guidance for ADSs

10:30-10:45 a.m.—Break

10:45-12 a.m.—Section 2: Technical Assistance to States

12 a.m.—Adjourn

Issued in Washington, DC under authority delegated by 49 CFR 1.95.
Nathaniel Beuse,
Associate Administrator for Vehicle Safety Research.

[FR Doc. 2017-23198 Filed 10-24-17; 8:45 am]

BILLING CODE 4910-59-P